SECURITIES AND EXCHANGE COMMISSION

[Release No. 34-102399; File Nos. PCAOB-2024-06, PCAOB-2024-07]

Public Company Accounting Oversight Board; Notice of Withdrawal of Proposed Rules on Firm Reporting and Firm and Engagement Metrics and Related Amendments to PCAOB Standards

February 11, 2025.

On November 22, 2024, the Public Company Accounting Oversight Board (“PCAOB”) filed with the Securities and Exchange Commission (“Commission”), pursuant to section 19(b)(1) of the Securities Exchange Act of 1934 (“Act”) ¹ and Rule 19b-4 thereunder,² proposed rules on (1) Firm Reporting (“Firm Reporting”) and (2) Firm and Engagement Metrics and Related Amendments to PCAOB Standards (“Firm and Engagement Metrics”). The proposed rules on Firm Reporting were published for comment in the Federal Register on December 5, 2024,³ and the proposed rules on Firm and Engagement Metrics were published for comment in the Federal Register on December 11, 2024.⁴ The Commission provided a 21-day public comment period for the proposed rules.⁵

¹ 15 U.S.C. 78s(b)(1).

² 17 CFR 240.19b-4.

³ See Public Company Accounting Oversight Board; Notice of Filing of Proposed Rules on Firm Reporting, Release No. 34-101723 (Nov. 25, 2024) [89 FR 96712 (Dec. 5, 2024)].

⁴ See Public Company Accounting Oversight Board; Notice of Filing of Proposed Rules on Firm and Engagement Metrics and Related Amendments to PCAOB Standards, Release No. 34-101724 (Nov. 25, 2024) [89 FR 99968 (Dec. 11, 2024)].

⁵ See supra notes 3 and 4. Comments received by the Commission on the proposed rules are available at: https://www.sec.gov/comments/pcaob-2024-06/pcaob202406.htm and https://www.sec.gov/comments/pcaob-2024-07/pcaob202407.htm.

On January 14, 2025, the Commission extended the public comment periods for the proposed rules on Firm Reporting and Firm and Engagement Metrics, and, pursuant to section 19(b)(2) of the Act,⁶ extended the date by which the Commission shall either approve or disapprove, or institute proceedings to determine whether to disapprove, the proposed rules on Firm Reporting to March 5, 2025 and the proposed rules on Firm and Engagement Metrics to March 11, 2025.⁷

⁶ 15 U.S.C. 78s(b)(2).

⁷ See Public Company Accounting Oversight Board; Extension of Comment Period and Notice of Designation of Longer Period for Commission Action on Proposed Rules on Firm Reporting and Firm and Engagement Metrics and Related Amendments to PCAOB Standards, Release No. 34-102179 (Jan. 14, 2025) [90 FR 6036 (Jan. 17, 2025)].

On February 11, 2025, the PCAOB withdrew the proposed rules on Firm and Engagement Metrics (PCAOB-2024-06) and Firm Reporting (PCAOB-2024-07).

For the Commission, by the Office of the Chief Accountant, pursuant to delegated authority.⁸
⁸ 17 CFR 200.30-11(b)(1).
Vanessa A. Countryman,
Secretary.

[FR Doc. 2025-02700 Filed 2-14-25; 8:45 am]

BILLING CODE 8011-01-P